DEPARTMENT OF COMMERCE

International Trade Administration

[A-549-502]

Circular Welded Carbon Steel Pipes and Tubes From Thailand: Amended Final Results of Antidumping Duty Administrative Review Pursuant to Final Court Decision

AGENCY: Import Administration, International Trade Administration, Department of Commerce.

SUMMARY: On February 14, 2011, the U.S. Court of Appeals for the Federal Circuit (CAFC) sustained the U.S. Court of International Trade's (CIT) decision in Saha Thai Steel Pipe (Public) Co., Ltd. v. United States, Consol Ct. 08-00380, Slip Op. 10-1 (Ct. Int'l Trade January 4, 2010) (Saha Thai CIT Decision). See Saha Thai Steel Pipe (Public) Co., Ltd. v. United States, No. 2010-1220, -1224, 2011 U.S. App. Lexis 2811 (Fed. Cir. Feb. 14, 2011) (Saha Thai CAFC Decision). Because all litigation in this matter has now concluded, the Department of Commerce (Department) is amending the final results of the administrative review of the antidumping order on circular welded carbon steel pipes and tubes from Thailand, which covered Saha Thai Steel Pipe (Public) Co., Ltd. (Saha Thai) and the period March 1, 2006, through February 28, 2007. See Circular Welded Carbon Steel Pipes and Tubes from Thailand: Final Results of Antidumping Duty Administrative Review, 73 FR 61019 (October 15, 2008) (Final Results).

FOR FURTHER INFORMATION CONTACT: Jacqueline Arrowsmith or Dana Mermelstein, AD/CVD Operations, Office 6, Import Administration, International Trade Administration, Department of Commerce, 14th Street and Constitution Avenue, NW., Washington, DC 20230; telephone: (202) 482-5255 or (202) 482-1391, respectively.

SUPPLEMENTARY INFORMATION:

Background

On October 15, 2008, the Department published the final results of its 2006-2007 administrative review of circular welded carbon steel pipes and tubes from Thailand. See Final Results. In the Final Results, the Department granted an upward adjustment to export price (EP) in accordance with section 772(c)(1) of the Tariff Act of 1930, as amended (the Act), which directs the Department to increase EP by “the amount of any import duties imposed by the country of exportation which have been rebated, or which have not been collected, by reason of the exportation of the subject merchandise to the United States.” We calculated the upward adjustment to EP for exempted import duties on material inputs using Saha Thai's actual yield loss factor rather than the yield loss factor set by the Government of Thailand (GOT). See Final Results and accompanying Issues and Decision Memorandum at Comment 4. We also adjusted the cost of production and the constructed value to include an amount equal to the value of the import duties exempted on material inputs. Saha Thai and the Domestic Interested Parties ¹ challenged the Department's Final Results.

¹ The Domestic Interested Parties are Allied Tube and Conduit Corp. and Wheatland Tube Company.

In Saha Thai Steel Pipe (Public) Company v. United States, Consol. Ct. 08-00380, Slip Op. 09-116 (October 15, 2009), the CIT affirmed the Final Results on all but one issue. The CIT directed the Department to recalculate Saha Thai's antidumping margin using the GOT-determined yield loss factor to calculate the adjustment to EP for exempted import duties. On December 11, 2009, the Department issued its final results of redetermination pursuant to the CIT's October 15, 2009 ruling. See the Results of Redetermination Pursuant to Remand (found at http://ia.ita.doc.gov/remands/index.html) (Remand). The CIT issued its final decision on January 4, 2010 affirming the Remand. See Saha Thai CIT Decision. Consistent with the CAFC decision in Timken Co. v. United States, 893 F.2d 337 (Fed. Cir. 1990), the Department published, in the Federal Register, a notice of a court decision that is not “in harmony” with the Department's final results. See Circular Welded Carbon Steel Pipes and Tubes From Thailand: Court Decision Not in Harmony with Final Results of Administrative Review, 75 FR 2487 (January 15, 2010).

On February 22, 2010, Saha Thai appealed the Saha Thai CIT Decision, arguing that an increase in the cost of production to account for “fictitious” costs was not warranted. Saha Thai also argued that the inclusion of these exempted import duties in the cost of production constitutes double counting. On March 1, 2010, the Domestic Interested Parties appealed the Saha Thai CIT Decision challenging the Department's two-prong test that must be met before the Department makes an upward adjustment to EP pursuant to section 772(c)(B)(1) of the Act. Under the two-prong test, the exporter/producer must show that: (i) The import duty and rebate are directly linked to one another, and (ii) sufficient imports are made to account for the finished merchandise exported to the United States. The Domestic Interested Parties argued that the Department can only increase EP when import duties are “imposed by the country of exportation,” and, in this case, the duties were exempted rather than collected and drawn back or rebated. In its Saha Thai CAFC Decision, the CAFC rejected Saha Thai's and the Domestic Interested Parties' arguments and upheld the Saha Thai CIT Decision, thus sustaining the Remand in full. See Saha Thai CAFC Decision. No party appealed the CAFC's decision. Because there is now a final and conclusive decision, we are issuing these amended final results of review to reflect the results of the Remand.

Amended Final Results of the Review

We are amending the final results of the 2006-2007 administrative review of circular welded carbon steel pipes and tubes from Thailand in accordance with the Remand. The revised weighted-average margin for Saha Thai is 4.21 percent for the period March 1, 2006, through February 28, 2007.

Assessment of Duties

The Department has determined, and U.S. Customs and Border Protection (CBP) shall assess, antidumping duties on all appropriate entries covered by these amended final results. The Department intends to issue liquidation instructions to CBP 15 days after publication of these amended final results in the Federal Register. The cash deposit rate will remain the company-specific rate established in the most recently completed administrative review of Saha Thai. See Circular Welded Carbon Steel Pipes and Tubes From Thailand: Amended Final Results of Antidumping Duty Administrative Review, 75 FR 73033 (November 29, 2010). We are issuing and publishing these amended final results of administrative review in accordance with sections 751(a)(1) and 777(i) of the Act.

Dated: May 9, 2011.
Ronald K. Lorentzen,
Deputy Assistant Secretary for Import Administration.

[FR Doc. 2011-11825 Filed 5-12-11; 8:45 am]

BILLING CODE 3510-DS-P